DEPARTMENT OF AGRICULTURE

Food and Nutrition Service

Administrative Reviews in the School Nutrition Programs; Approval of Information Collection Request

AGENCY: Food and Nutrition Service, USDA.

ACTION: Notice of approval of Information Collection Request (ICR).

SUMMARY: The final rule titled Administrative Reviews in the School Nutrition Programs was published on July 29, 2016 (81 FR 50170). The Office of Management and Budget (OMB) cleared the associated information collection requirements (ICR) on September 12, 2016. This document announces approval of the ICR.

DATES: The ICR associated with the final rule published in the Federal Register on July 29, 2016, at 81 FR 50170, was approved by OMB on September 12, 2016, under OMB Control Number 0584-0006.

FOR FURTHER INFORMATION CONTACT: Sarah Smith-Holmes, Child Nutrition Monitoring and Operations Support Division, Food and Nutrition Service, USDA, 3101 Park Center Drive, Alexandria, Virginia 22302; telephone: (703) 605-3223.

Dated: December 23, 2016.
Richard Lucas,
Acting Administrator, Food and Nutrition Service.

[FR Doc. 2016-31955 Filed 1-12-17; 8:45 am]

BILLING CODE 3410-30-P